DEPARTMENT OF COMMERCE

Patent and Trademark Office

37 CFR Part 2

[Docket No. PTO-T-2014-0011]

RIN 0651-AC94

Reduction of Fees for Trademark Applications and Renewals

AGENCY: United States Patent and Trademark Office, Commerce.

ACTION: Notice of proposed rulemaking.

SUMMARY: The United States Patent and Trademark Office (“Office” or “USPTO”) proposes reducing certain trademark fees, as authorized by the Leahy-Smith America Invents Act (“AIA” or “Act”). The proposed reductions will reduce total trademark fee collections and promote efficiency for the USPTO and customers. The proposals also will further USPTO strategic objectives to increase the end-to-end electronic processing of trademark applications by offering additional electronic application processing options and promoting online filing, electronic file management, and workflow.

DATES: Written comments must be received on or before June 23, 2014.

ADDRESSES: The USPTO prefers that comments be submitted via electronic mail message to TMFRNotices@uspto.gov. Written comments also may be submitted by mail to Commissioner for Trademarks, P.O. Box 1451, Alexandria, VA 22313-1451, attention Cynthia C. Lynch; by hand delivery to the Trademark Assistance Center, Concourse Level, James Madison Building—East Wing, 600 Dulany Street, Alexandria, Virginia 22314, attention Cynthia C. Lynch; or by electronic mail message via the Federal eRulemaking Portal. See the Federal eRulemaking Portal Web site (http://www.regulations.gov) for additional instructions on providing comments via the Federal eRulemaking Portal. All comments submitted directly to the USPTO or provided on the Federal eRulemaking Portal should include the docket number (PTO-T-2014-0011). The comments will be available for public inspection on the USPTO's Web site at http://www.uspto.gov, on the Federal eRulemaking Portal, and also will be available at the Office of the Commissioner for Trademarks, Madison East, Tenth Floor, 600 Dulany Street, Alexandria, Virginia 22314. Because comments will be made available for public inspection, information that is not desired to be made public, such as an address or phone number, should not be included.

FOR FURTHER INFORMATION CONTACT: Cynthia C. Lynch, Office of the Deputy Commissioner for Trademark Examination Policy, by email at TMPolicy@uspto.gov, or by telephone at (571) 272-8742.

SUPPLEMENTARY INFORMATION: Executive Summary: Purpose: Section 10 of the AIA authorizes the Director of the USPTO (“Director”) to set or adjust by rule any fee established, authorized, or charged under the Trademark Act of 1946 (15 U.S.C. 1051 et seq.) for any services performed by, or materials furnished by, the Office. See Section 10 of the AIA, Public Law 112-29, 125 Stat. at 316-17.

Section 10(c) of the AIA authorizes the Director to consult with the Trademark Public Advisory Committee (“TPAC”) on the advisability of reducing trademark fees and, following the required consultation, to reduce such fees. See Section 10(c) of the AIA, Public Law 112-29, 125 Stat. at 317. The Director has consulted with TPAC and thereafter determined that it is advisable to propose such reductions in order to both improve the alignment of Office costs with revenues and incentivize electronic communications, thereby increasing efficiency. Therefore, the USPTO proposes to reduce the filing fees for trademark, certification mark, collective membership mark, and collective trademark applications for registration on the Principal or Supplemental Register that are filed using the Trademark Electronic Application System (“TEAS”) if applicants authorize email communication and file electronically throughout the application process. The USPTO also proposes to reduce the filing fees for TEAS Plus applications for registration and TEAS applications for renewal of a registration.

The per-class fees for filing an application for registration of a trademark are currently set at $375 for filing a paper application, $325 for filing electronically using TEAS, and $275 for filing electronically using TEAS Plus, which involves additional requirements. 37 CFR 2.6(a)(1). The per-class fee for renewal of a registration is currently $400. 37 CFR 2.6(a)(5).

Prior to consulting with TPAC, the USPTO also published a notice of inquiry to provide the public, including user groups, with an opportunity to comment on possible adjustments to trademark application fees (77 FR 49,426 (Aug. 16, 2012)). The public comments overwhelmingly favored a fee reduction, and many expressed a desire for a lower-cost electronic filing option without any restrictions on the nature of the identification of goods and services, as is required under TEAS Plus.

The proposed fees will help the USPTO to: (1) Continue with an appropriate and sustainable funding model; (2) support strategic objectives relating to online filing, electronic file management, and workflow; and (3) improve efficiency for USPTO operations and customers. The proposals will benefit the public by providing lower costs to seek federal registration, including advantages to individual and pro se filers, who make greater use of lower-cost filing options. In addition, the proposals offer additional options for meeting applicants' needs and preferences.

Summary of Major Provisions: After reviewing the comments received in response to the notice of inquiry, the USPTO proposes to reduce by $50 the fee for an application filed using the regular TEAS application form from $325 to $275 per class if the applicant authorizes email communication and agrees to file all responses and other documents electronically during the prosecution of the application. This option will be known as a TEAS Reduced Fee (“TEAS RF”) application. The USPTO also proposes to reduce by $50 the fee for a TEAS Plus application from $275 to $225 per class and reduce by $100 the fee for a TEAS application for renewal of a registration from $400 to $300 per class. As has been the case since the inception of TEAS Plus, TEAS Plus applicants who fail to fulfill the filing and examination requirements set out in the rules will be subject to a processing fee of $50 per class, and similarly, TEAS RF applicants who fail to fulfill the requirements under the proposed rules will be subject to the existing processing fee of $50 per class.

The filing fee of $375 per class for applications for registration filed on paper will not be changed. The filing fee of $400 per class for renewal of a registration filed on paper will not change.

Costs and Benefits: This rulemaking is not economically significant under Executive Order 12866 (Sept. 30, 1993).

References below to “the Act,” “the Trademark Act,” or “the statute” refer to the Trademark Act of 1946, 15 U.S.C. 1051 et seq., as amended. References to “TMEP” or “Trademark Manual of Examining Procedure” refer to the October 2013 edition.

Discussion of Proposed Rules Changes

The USPTO proposes to amend §§ 2.6, 2.22, and 2.23.

The USPTO proposes to revise § 2.6(a)(1) to enumerate the revised application filing fee options. The proposed § 2.6(a)(1)(iii) sets out the new, reduced fee of $275 for filing a TEAS Reduced Fee (i.e., TEAS RF) application under proposed § 2.23. The proposed § 2.6(a)(i)(iv) for TEAS Plus is the same as the existing § 2.6(a)(1)(iii) except that the TEAS Plus fee is reduced from $275 to $225 per class and there is minor rewording for consistency with existing § 2.6(a)(1)(ii) and proposed § 2.6(a)(1)(iii). The proposed § 2.6(a)(1)(v) processing fee is the same as the existing § 2.6(a)(1)(iv) except for amended citations to proposed §§ 2.22(c) and 2.23(c). The USPTO proposes to revise § 2.6(a)(5) to enumerate the revised fees for renewal of a registration. The proposed § 2.6(a)(5)(i) sets out the current fee of $400 as the fee for an application for renewal of a registration filed on paper. The proposed § 2.6(a)(5)(ii) sets out the reduced fee of $300 per class for a TEAS renewal of a registration.

The USPTO proposes to make the following format revisions to § 2.22 concerning TEAS Plus applications: Revise the rule title; in § 2.22(a), cite to § 2.6(a)(1)(iv) instead of § 2.6(a)(1)(iii); in § 2.22(b), set forth the additional examination requirements for a TEAS Plus application that are currently set forth in existing § 2.23(a); in § 2.22(c), set forth the current text in existing §§ 2.22(b) and 2.23(b), and cite to § 2.6(a)(1)(v) instead of to § 2.6(a)(1)(iv); and, in § 2.22(d), set forth the text currently in existing § 2.22(c).

The USPTO proposes to revise current § 2.23 to create a TEAS RF option in the amount of $275. Existing § 2.23 currently lists the additional examination requirements for a TEAS Plus application. As noted above, the provisions in existing § 2.23 would be consolidated into revised § 2.22. Filers using either the TEAS Plus or the new TEAS RF option are required to authorize email communication from the USPTO and submit documents electronically using TEAS during the prosecution of the application. However, filers using the new TEAS RF option are not required to comply with the additional TEAS Plus requirements for submitting the initial application.

Rulemaking Considerations

Administrative Procedure Act: This rulemaking proposes to reduce fees under Section 10(c) of the AIA. See also 15 U.S.C. 1113, 15 U.S.C. 1123, 35 U.S.C. 2. The other changes proposed in this rulemaking establish procedures for applicants seeking these reduced fees. The procedural changes proposed in this rulemaking involve rules of agency practice and procedure, and/or interpretive rules. See Nat'l Org. of Veterans' Advocates v. Sec'y of Veterans Affairs, 260 F.3d 1365, 1375 (Fed. Cir. 2001) (stating that a rule that clarifies interpretation of a statute is interpretive); Bachow Commc'ns Inc. v. FCC, 237 F.3d 683, 690 (D.C. Cir. 2001) (stating that rules governing an application process are procedural under the Administrative Procedure Act); Inova Alexandria Hosp. v. Shalala, 244 F.3d 342, 350 (4th Cir. 2001) (stating that rules for handling appeals were procedural where they did not change the substantive standard for reviewing claims).

Accordingly, prior notice and opportunity for public comment for the procedural changes are not required pursuant to 5 U.S.C. 553(b) or (c) (or any other law). See Cooper Techs. Co. v. Dudas, 536 F.3d 1330, 1336-37 (Fed. Cir. 2008) (stating that 5 U.S.C. 553, and thus 35 U.S.C. 2(b)(2)(B), does not require notice and comment rulemaking for “interpretative rules, general statements of policy, or rules of agency organization, procedure, or practice” (quoting 5 U.S.C. 553(b)(3)(A))). The Office, however, is publishing these proposed changes for comment as it seeks the benefit of the public's views on the Office's proposed reduced fees along with accompanying related requirements.

Initial Regulatory Flexibility Analysis

1. Description of the Reasons That Action by the USPTO Is Being Considered

The USPTO proposes reducing certain trademark fees as authorized by Section 10(c) of the AIA. The proposed reductions will reduce total trademark fee collections and promote efficiency for the USPTO and customers through increased electronic communication. Specifically, the USPTO proposes to amend its rules to reduce application filing fees for certain applications for registration on the Principal or Supplemental Register under section 1 and/or section 44 of the Trademark Act that are filed through TEAS, and to reduce the fee for renewal of a trademark registration that is filed through TEAS.

2. Succinct Statement of the Objectives of, and Legal Basis for, the Proposed Rule

The objectives of the proposed rules are to reduce total trademark filing and renewal fees and fee collections, improve the alignment of Office costs with revenues, and promote efficiency for the USPTO and customers through electronic communication. Filing through TEAS and authorizing email communication expedites processing, shortens pendency, minimizes manual processing and the potential for data entry errors, and is more efficient for both the filer and the USPTO. TEAS-filed documents are automatically uploaded into the USPTO database. They require no manual scanning or creation of a paper file wrapper, and they reduce or eliminate the need for manual data entry of amendments to the filings. Authorizing email communication provides similar benefits, by reducing the need for mailing and the creation of, or addition to, a file wrapper. Paper filings, on the other hand, necessitate: (1) Manual scanning and uploading of the documents into the USPTO database; (2) manual data entry of information; and (3) the creation of paper file wrappers in which to store the originals of the paper filings. Thus, the proposed rules facilitate efficiency in numerous ways. As to the legal basis for the proposed rules, Section 10(c) of the AIA provides the authority for the Director to reduce trademark fees after consultation with TPAC. See also Section 31 of the Trademark Act, 15 U.S.C. 1113. Both 15 U.S.C. 1123 and 35 U.S.C. 2 provide the authority for the Director to establish regulations for the conduct of trademark proceedings at the USPTO.

3. Description of and, Where Feasible, Estimate of the Number of Affected Small Entities

The USPTO does not collect or maintain statistics in trademark cases on small- versus large-entity applicants, and this information would be required in order to determine the number of small entities that would be affected by the proposed rules. However, the USPTO will provide projected estimates of each type of filing affected by the proposed rules. The USPTO believes that the overall impact of the proposed lower fees on applicants and registrants will be overwhelmingly positive, as they will be afforded the opportunity to obtain a trademark registration for a reduced fee.

The proposed rules could apply to any entity filing a trademark application, except those filing under Section 66(a), 15 U.S.C. 1141f(a). The USPTO estimates that during the first year under the rules as proposed, the USPTO would receive 204,682 classes of TEAS Plus applications and 103,633 classes of TEAS RF applications that, absent the rule change, would be filed as regular TEAS applications. Thus, the estimated financial impact of the proposed reduced fees will be: (1) A $10,234,100 reduction in fees for TEAS Plus applicants; and (2) a $5,181,650 reduction in fees for TEAS RF applicants, or $5,065,100, when the estimated 2,331 classes of TEAS RF applicants who must pay the $50 processing fee are taken into consideration. Turning to the renewal fee, the USPTO estimates that during the first year under the rules as proposed, the USPTO would receive 62,315 classes of renewals, 61,193 filed through TEAS, such that the financial impact will be a $6,119,300 reduction in fees for trademark owners. The USPTO does not collect or maintain statistics in trademark cases on small versus large-entity applicants to determine what subset of applicants would be those small entities impacted by the proposed rules.

4. Description of the Reporting, Recordkeeping, and Other Compliance Requirements of the Proposed Rule, Including an Estimate of the Classes of Small Entities Which Will Be Subject to the Requirement and the Type of Professional Skills Necessary for Preparation of the Report or Record

The proposed rules impose no new reporting or recordkeeping requirements.

The proposed rules reduce fees for applications for and renewals of trademark registrations. The USPTO does not anticipate that the proposed rules would have a disproportionate impact upon any particular class of small or large entities. Any entity that applies for or renews a registered trademark could in fact benefit from the proposed rules. The proposed rules merely offer lower fees based on electronic filing of the renewal or application and other documents, and authorization for email communication from the USPTO. Because the fees for filing a paper application, a regular TEAS application, and a paper application for renewal of a registration remain unchanged under the proposed rules, and applicants may continue to file on paper or via the regular TEAS application form, following the requirements for the reduced fee options in the proposed rules will be the choice of the filer. Procedures for TEAS Plus filers remain the same, as the proposed rules merely reduce fees, and consolidate the TEAS Plus procedures within one rule, without imposing any change in practice. Filers using the new TEAS RF option will submit documents electronically using TEAS during the prosecution of the application and will authorize email communication from the USPTO.

The USPTO estimates that filing electronically will not take any more time than filing the same type of document on paper and is likely to take less time. The USPTO further estimates that communicating by email will not take any more time than receiving and reviewing a USPTO communication sent by regular mail and is likely to take less time.

5. Description of Any Significant Alternatives to the Proposed Rule Which Accomplish the Stated Objectives of Applicable Statutes and Which Minimize Any Significant Economic Impact of the Rule on Small Entities

The USPTO has considered whether and how it is appropriate to reduce any burden on small businesses through increased flexibility. The following options have been considered, but rejected, by the USPTO, since they are less protective of small businesses.

The alternative of not offering these reduced fees, or not offering them to small entities, would retain the status quo for small entities and therefore produce no economic impact on them, but that alternative has been rejected because the economic effect of the proposed rules will be favorable to small businesses, rather than burdensome. In addition, the alternative of not reducing fees would fail to accomplish the stated objectives of reducing overall trademark fee collections and increasing efficiency for the USPTO and filers.

The proposed rules provide streamlined and simplified procedures for all small entities, given the ease of filing electronically through TEAS and communicating by email. Thus, compliance will be streamlined and simplified for all affected entities. The proposed fee reductions promote greater efficiency from electronic filing and communication, as the procedures are simpler and not burdensome.

Use of performance rather than design standards is not applicable to the proposed rulemaking because the USPTO is not issuing any sort of standard. Rather, the proposed rules will offer reduced fees to applicants and registrants who file and communicate electronically with the USPTO.

6. Identification, to the Extent Practicable, of all Relevant Federal Rules Which May Duplicate, Overlap, or Conflict With the Proposed Rule

The proposed rules would not duplicate, overlap, or conflict with any other Federal rules.

Executive Order 12866 (Regulatory Planning and Review): This rule has been determined to be not significant for purposes of Executive Order 12866 (Sept. 30, 1993).

Executive Order 13563 (Improving Regulation and Regulatory Review): The USPTO has complied with Executive Order 13563 (Jan. 18, 2011). Specifically, the USPTO has, to the extent feasible and applicable: (1) Made a reasoned determination that the benefits justify the costs of the rule; (2) tailored the rule to impose the least burden on society consistent with obtaining the regulatory objectives; (3) selected a regulatory approach that maximizes net benefits; (4) specified performance objectives; (5) identified and assessed available alternatives; (6) provided the public with a meaningful opportunity to participate in the regulatory process, including soliciting the views of those likely affected prior to issuing a notice of proposed rulemaking, and provided online access to the rulemaking docket; (7) attempted to promote coordination, simplification, and harmonization across government agencies and identified goals designed to promote innovation; (8) considered approaches that reduce burdens and maintain flexibility and freedom of choice for the public; and (9) ensured the objectivity of scientific and technological information and processes, to the extent applicable.

Executive Order 13132 (Federalism): This rule does not contain policies with federalism implications sufficient to warrant preparation of a Federalism Assessment under Executive Order 13132 (Aug. 4, 1999).

Congressional Review Act: Under the Congressional Review Act provisions of the Small Business Regulatory Enforcement Fairness Act of 1996 (5 U.S.C. 801 et seq.), prior to issuing any final rule, the USPTO will submit a report containing the final rule and other required information to the United States Senate, the United States House of Representatives, and the Comptroller General of the Government Accountability Office. The changes in this notice are not expected to result in an annual effect on the economy of 100 million dollars or more, a major increase in costs or prices, or significant adverse effects on competition, employment, investment, productivity, innovation, or the ability of United States-based enterprises to compete with foreign-based enterprises in domestic and export markets. Therefore, this notice is not expected to result in a “major rule” as defined in 5 U.S.C. 804(2).

Unfunded Mandates Reform Act of 1995: The changes set forth in this rulemaking do not involve a Federal intergovernmental mandate that will result in the expenditure by State, local, and tribal governments, in the aggregate, of 100 million dollars (as adjusted) or more in any one year, or a Federal private sector mandate that will result in the expenditure by the private sector of 100 million dollars (as adjusted) or more in any one year, and will not significantly or uniquely affect small governments. Therefore, no actions are necessary under the provisions of the Unfunded Mandates Reform Act of 1995. See 2 U.S.C. 1501 et seq.

Paperwork Reduction Act: This rule involves information collection requirements which are subject to review by the Office of Management and Budget (OMB) under the Paperwork Reduction Act of 1995 (44 U.S.C. 3501 et seq.). The collection of information involved in this rule has been reviewed and previously approved by OMB under control numbers 0651-0009 and 0651-0055.

I. Summary

The USPTO proposes reducing certain trademark fees, as authorized by the AIA. The proposed reductions will reduce total trademark fee collections and promote efficiency for the USPTO and customers through electronic communication. The proposals will further the USPTO strategic objective to increase the end-to-end electronic processing of trademark applications including online filing, electronic file management, and workflow. Specifically, the USPTO proposes to amend its rules to permit a trademark applicant using the regular TEAS application form to file an application for registration on the Principal or Supplemental Register under section 1 and/or section 44 of the Trademark Act to pay a reduced fee under certain circumstances. The reduced fee would be offered to a TEAS applicant if the applicant agrees to receive communications concerning the application by email and to file all responses and other documents through TEAS during the prosecution of the application. The reduced fee option will not apply to applications filed pursuant to section 66(a) of the Act because they cannot be filed through TEAS. The USPTO also proposes to amend its rules to reduce the filing fees for an application filed using the TEAS Plus form and a TEAS application for renewal of a registration.

II. Data

Needs and Uses: The public uses the various applications to apply for the registration of trademarks/service marks, collective trademarks/service marks, collective membership marks, and certification marks that identify goods and/or services classified in single or multiple classes. The public also uses applications under section 44 to apply for a priority filing date and/or for registration based upon foreign registration of a mark. The USPTO uses information from the public to receive and process applications for registration of trademarks/service marks, collective trademarks/service marks, collective membership marks, and certification marks. The USPTO uses information from the public in response to section 44 applications to process applications for registration of a mark based upon earlier-filed foreign applications or a foreign registration. In addition, the USPTO also uses the application information to determine whether the marks may be registered. The public uses the application for renewal to apply for the renewal of a registration. The USPTO uses information from the public to receive and process applications for renewal of a registration.

Title of Collection: Applications for Trademark Registration.

OMB Control Number: 0651-0009.

Form Number(s): PTO Forms 1478, 1480, 1481, 1482.

Type of Review: Revised Collection.

Method of Collection: By mail, facsimile, hand delivery, or electronically to the Office.

Affected Public: Individuals or households; businesses or other for-profits; and not-for-profit institutions.

Estimated Number of Responses: 359,560.

Estimated Time per Response: The Office estimates that the responses in this collection will take the public approximately 18 to 30 minutes (0.3 to 0.5 hours).

Estimated Total Annual Respondent Burden Hours: 125,373 hours per year.

Estimated Total Annual Respondent Cost Burden: $48,770,097 per year.

Estimated Total Annual Non-hour Respondent Cost Burden: $97,548,226 per year.

Title of Collection: Post Registration (Trademark Processing).

OMB Control Number: 0651-0055.

Form Number(s): PTO Form 1963.

Type of Review: Revised Collection.

Method of Collection: By mail, facsimile, hand delivery, or electronically to the Office.

Affected Public: Individuals or households; businesses or other for-profits; and not-for-profit institutions.

Estimated Number of Responses: 51,929.

Estimated Time per Response: The Office estimates that the responses in this collection will take the public approximately 12 to 14 minutes (0.20 to 0.23 hours).

Estimated Total Annual Respondent Burden Hours: 10,414 hours per year.

Estimated Total Annual Respondent Cost Burden: $4,050,988 per year.

Estimated Total Annual Non-hour Respondent Cost Burden: $20,865,550 per year.

III. Solicitation

The agency is soliciting comments to: (1) Evaluate whether the proposed information requirement is necessary for the proper performance of the functions of the agency, including whether the information will have practical utility; (2) evaluate the accuracy of the agency's estimate of the burden; (3) enhance the quality, utility, and clarity of the information to be collected; and (4) minimize the burden of collecting the information on those who are to respond, including by using appropriate automated, electronic, mechanical, or other technological collection techniques or other forms of information technology.

Interested persons are requested to send comments regarding this information collection by June 23, 2014 to: (1) The Office of Information and Regulatory Affairs, Office of Management and Budget, New Executive Office Building, Room 10202, 725 17th Street NW., Washington, DC 20503, Attention: Nicholas A. Fraser, the Desk Officer for the United States Patent and Trademark Office; and (2) The Commissioner for Trademarks, by mail to P.O. Box 1451, Alexandria, VA 22313-1451, attention Cynthia C. Lynch; by hand delivery to the Trademark Assistance Center, Concourse Level, James Madison Building-East Wing, 600 Dulany Street, Alexandria, Virginia 22314, attention Cynthia C. Lynch; or by electronic mail message via the Federal eRulemaking Portal. All comments submitted directly to the USPTO or provided on the Federal eRulemaking Portal should include the docket number (PTO-T-2014-0011).

Notwithstanding any other provision of law, no person is required to respond to nor shall a person be subject to a penalty for failure to comply with a collection of information subject to the requirements of the Paperwork Reduction Act unless that collection of information displays a currently valid OMB control number.

List of Subjects in 37 CFR Part 2

Administrative practice and procedure, Trademarks.

For the reasons stated in the preamble and under the authority contained in Section 10(c) of the AIA, 15 U.S.C. 1113, 15 U.S.C. 1123, and 35 U.S.C. 2, as amended, the USPTO proposes to amend part 2 of title 37 as follows:

PART 2—RULES OF PRACTICE IN TRADEMARK CASES

1. The authority citation for part 2 reads as follows:

Authority: 15 U.S.C. 1113, 15 U.S.C. 1123, 35 U.S.C. 2, Section 10(c) of the Leahy-Smith America Invents Act (Pub. L. 112-29), unless otherwise noted.

2. Amend § 2.6 by revising paragraphs (a)(1)(iii) and (iv), adding paragraph (a)(1)(v), and revising paragraph (a)(5) to read as follows:

§ 2.6 Trademark fees.

* * * * *

(a) * * *

(1) * * *

(iii) For filing a TEAS Reduced Fee (RF) application through TEAS under § 2.23, per class—$275.

(iv) For filing a TEAS Plus application through TEAS under § 2.22, per class—$225.00.

(v) Additional processing fee under § 2.22(c) or § 2.23(c), per class—$50.00.

* * * * *

(5) Application for renewal of a registration fees.

(i) For filing an application for renewal of a registration on paper, per class—$400.00.

(ii) For filing an application for renewal of a registration through TEAS, per class—$300.00.

* * * * *

3. Amend § 2.22 by revising the section heading, paragraph (a) introductory text, and paragraphs (b) and (c) and adding paragraph (d) to read as follows:

§ 2.22 Requirements for a TEAS Plus application.

(a) A trademark/service mark application for registration on the Principal Register under section 1 and/or section 44 of the Act will be entitled to a reduced filing fee under § 2.6(a)(1)(iv) if it is filed through TEAS and includes:

* * * * *

(b) In addition to the filing requirements under paragraph (a), the applicant must:

(1) File the following communications through TEAS:

(i) Responses to Office actions (except notices of appeal under section 20 of the Trademark Act);

(ii) Requests to change the correspondence address and owner's address;

(iii) Appointments and/or revocations of power of attorney;

(iv) Appointments and/or revocations of domestic representative;

(v) Voluntary amendments;

(vi) Amendments to allege use under section 1(c) of the Act or statements of use under section 1(d) of the Act;

(vii) Requests for extensions of time to file a statement of use under section 1(d) of the Act; and

(viii) Requests to delete a section 1(b) basis.

(2) Maintain a valid email correspondence address and continue to receive communications from the Office by email.

(c) If an application does not fulfill the requirements of paragraphs (a) and (b) of this section, the applicant must pay the processing fee required by § 2.6(a)(1)(v). The application will retain its original filing date, provided that when filed, the application met the filing date requirements of § 2.21.

(d) The following types of applications cannot be filed as TEAS Plus applications:

(1) Applications for certification marks (see § 2.45);

(2) Applications for collective trademarks and service marks (see § 2.44);

(3) Applications for collective membership marks (see § 2.44); and

(4) Applications for registration on the Supplemental Register (see § 2.47).

4. Revise § 2.23 to read as follows:

§ 2.23 Requirements for a TEAS RF application.

(a) A trademark, service mark, certification mark, collective membership mark, or collective trademark application for registration on the Principal or Supplemental Register under section 1 and/or section 44 of the Act will be entitled to a reduced filing fee under § 2.6(a)(1)(iii) if it is filed through TEAS and includes:

(1) an email address for correspondence; and

(2) an authorization for the Office to send correspondence concerning the application to the applicant or applicant's attorney by email.

(b) In addition to the filing requirements under paragraph (a), the applicant must:

(1) File the following communications through TEAS:

(i) Responses to Office actions (except notices of appeal under section 20 of the Trademark Act);

(ii) Requests to change the correspondence address and owner's address;

(iii) Appointments and/or revocations of power of attorney;

(iv) Appointments and/or revocations of domestic representative;

(v) Voluntary amendments;

(vi) Amendments to allege use under section 1(c) of the Act or statements of use under section 1(d) of the Act;

(vii) Requests for extensions of time to file a statement of use under section 1(d) of the Act; and

(viii) Requests to delete a section 1(b) basis.

(2) Maintain a valid email correspondence address, and continue to receive communications from the Office by email.

(c) If an application does not meet the requirements of paragraphs (a) and (b) of this section, the applicant must pay the processing fee required by § 2.6(a)(1)(v). The application will retain its original filing date, provided that when filed, the application met the filing date requirements of § 2.21.

Dated: May 6, 2014.
Michelle K. Lee,
Deputy Under Secretary of Commerce for Intellectual Property and Deputy Director, United States Patent and Trademark Office.

[FR Doc. 2014-10730 Filed 5-8-14; 8:45 am]

BILLING CODE 3510-16-P